DEPARTMENT OF ENERGY

10 CFR Part 600

Development of Nuclear Energy Technologies and Collaboration With States on Nuclear Development, Petitions for Rulemaking

AGENCY: Office of Nuclear Energy, Department of Energy.

ACTION: Petitions for rulemaking; request for comment.

SUMMARY: On November 18, 2018 and January 29, 2019, the Department of Energy (DOE) received similar petitions from Ms. Jill Adams and the State of Ohio, respectively, asking DOE to allow States and their agents to collaboratively develop new nuclear technologies with DOE, and under the authority of DOE, to include the development of small nuclear reactors. The petitions further request that DOE promulgate rules and establish programs that would allow States to develop collaborative nuclear and non-nuclear laboratories with DOE on currently licensed or formerly licensed nuclear facility grounds, and allow for the construction of collaborative nuclear experimentation containment facility testing platforms. Through this notice, DOE seeks comment on the petitions, as well as any data or information that could be used in DOE's determination on whether to proceed with the petitions.

DATES: Written comments and information are requested on or before November 13, 2019.

ADDRESSES: Interested persons are encouraged to submit comments, identified by “Nuclear Petitions,” by any of the following methods:

Federal eRulemaking Portal: http://www.regulations.gov. Follow the instructions for submitting comments.

Email: [NuclearPetitions@hq.doe.gov] Include “Nuclear Petitions” in the subject line of the message.

Postal Mail: Mark Yale, Office of Nuclear Energy, U.S. Department of Energy, Mailstop 5A-148, 1000 Independence Avenue SW, Washington, DC 20585. If possible, please submit all items on a compact disc (CD), in which case it is not necessary to include printed copies.

Hand Delivery/Courier: Mark Yale, Office of Nuclear Energy, U.S. Department of Energy, Mailstop 5A-148, 1000 Independence Avenue SW, Washington, DC 20585. Telephone: (202) 586-7856. If possible, please submit all items on a CD, in which case it is not necessary to include printed copies.

Docket: For access to the docket to read background documents, or comments received, go to the Federal eRulemaking Portal at http://www.regulations.gov.

FOR FURTHER INFORMATION CONTACT: Mark Yale, U.S. Department of Energy, Office of Nuclear Energy, Mailstop 5A-148, 1000 Independence Avenue SW, Washington, DC 20585. Telephone: (202) 586-7856. Email: Mark.Yale@hq.doe.gov.

SUPPLEMENTARY INFORMATION: The Administrative Procedure Act (APA), 5 U.S.C. 551 et seq., provides among other things, that “[e]ach agency shall give an interested person the right to petition for the issuance, amendment, or repeal of a rule.” (5 U.S.C. 553(e)) DOE received similar petitions from Ms. Jill Adams and the State of Ohio, as described in this notice and set forth verbatim below, requesting that DOE issue regulations to (1) allow States and their agents to collaboratively develop new nuclear technologies with DOE, and under the authority of DOE, to include the development of small nuclear reactors, and (2) establish programs that would allow States to develop collaborative nuclear and non-nuclear laboratories with DOE on currently licensed or formerly licensed nuclear facility grounds, and allow for the construction of collaborative nuclear experimentation containment facility testing platforms. The petitioners argue that DOE should take such actions pursuant to the authority granted by the Atomic Energy Act of 1954, Public Law 83-703, as amended. Petitioners cite various provisions found at 42 U.S.C. 2013 and 2021 in support of this position. In publishing these petitions for public comment, DOE is seeking views on whether it should grant the petitions and undertake a proposed rulemaking or other appropriate action. By seeking comment on whether to grant these petitions, DOE takes no position at this time regarding the merits of the suggested rulemaking or the assertions made by the Petitioner.

DOE welcomes comments and views of interested parties on any aspect of the petitions.

Submission of Comments

DOE invites all interested parties to submit in writing by November 13, 2019 comments and information regarding these petitions.

Submitting comments via http://www.regulations.gov. The http://www.regulations.gov web page will require you to provide your name and contact information prior to submitting comments. Your contact information will be viewable to DOE Building Technologies staff only. Your contact information will not be publicly viewable except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment or in any documents attached to your comment. Any information that you do not want to be publicly viewable should not be included in your comment, nor in any document attached to your comment. Persons viewing comments will see only first and last names, organization names, correspondence containing comments, and any documents submitted with the comments.

Do not submit to http://www.regulations.gov information for which disclosure is restricted by statute, such as trade secrets and commercial or financial information (hereinafter referred to as Confidential Business Information (CBI)). Comments submitted through http://www.regulations.gov cannot be claimed as CBI. Comments received through the website will waive any CBI claims for the information submitted. For information on submitting CBI, see the Confidential Business Information section.

DOE processes submissions made through http://www.regulations.gov before posting. Normally, comments will be posted within a few days of being submitted. However, if large volumes of comments are being processed simultaneously, your comment may not be viewable for up to several weeks. Please keep the comment tracking number that http://www.regulations.gov provides after you have successfully uploaded your comment.

Submitting comments via email, hand delivery, or postal mail. Comments and documents via email, hand delivery, or postal mail will also be posted to http://www.regulations.gov. If you do not want your personal contact information to be publicly viewable, do not include it in your comment or any accompanying documents. Instead, provide your contact information on a cover letter. Include your first and last names, email address, telephone number, and optional mailing address. The cover letter will not be publicly viewable as long as it does not include any comments.

Include contact information in your cover letter each time you submit comments, data, documents, and other information to DOE. If you submit via postal mail or hand delivery, please provide all items on a CD, if feasible, in which case it is not necessary to submit printed copies. No telefacsimiles (faxes) will be accepted.

Comments, data, and other information submitted electronically should be provided in PDF (preferred), Microsoft Word or Excel, WordPerfect, or text (ASCII) file format. Provide documents that are not secured, written in English, and free of any defects or viruses. Documents should not include any special characters or any form of encryption, and, if possible, they should carry the electronic signature of the author.

Campaign form letters. Please submit campaign form letters by the originating organization in batches of between 50 to 500 form letters per PDF or as one form letter with a list of supporters' names compiled into one or more PDFs. This reduces comment processing and posting time.

Confidential Business Information. Pursuant to 10 CFR 1004.11, any person submitting information that he or she believes to be confidential and exempt by law from public disclosure should submit via email, postal mail, or hand delivery two well-marked copies: One copy of the document marked “Confidential” including all the information believed to be confidential, and one copy of the document marked “Non-confidential” with the information believed to be confidential deleted. Submit these documents via email or on a CD, if feasible. DOE will make its own determination about the confidential status of the information and treat it according to its determination.

Factors of interest to DOE when evaluating requests to treat submitted information as confidential include: (1) A description of the items; (2) whether and why such items are customarily treated as confidential within the industry; (3) whether the information is generally known by or available from other sources; (4) whether the information has previously been made available to others without obligation concerning its confidentiality; (5) an explanation of the competitive injury to the submitting person which would result from public disclosure; (6) when such information might lose its confidential character due to the passage of time, and (7) why disclosure of the information would be contrary to the public interest.

It is DOE's policy that all comments may be included in the public docket, without change and as received, including any personal information provided in the comments (except information deemed to be exempt from public disclosure).

DOE considers public participation to be a very important part of its process for considering rulemaking petitions. DOE actively encourages the participation and interaction of the public during the comment period. Interactions with and between members of the public provide a balanced discussion of the issues and assist DOE in determining how to proceed with a petition. Anyone who wishes to be added to DOE's mailing list to receive future notices and information about this petition should contact Office of Nuclear Energy program staff at (202) 586-7856 or via email at Mark.Yale@hq.doe.gov.

Approval of the Office of the Secretary

The Secretary of Energy has approved publication of this notice of petitions for rulemaking.

Signed in Washington, DC, on May 14, 2019.
Edward McGinnis,
Principal Deputy Assistant Secretary, Nuclear Energy.

BILLING CODE 6450-01-P

[FR Doc. 2019-17205 Filed 8-14-19; 8:45 am]

BILLING CODE 6450-01-C